ENVIRONMENTAL PROTECTION AGENCY

[EPA-HQ-OECA-2013-0315; FRL-10011-70-OMS]

Information Collection Request Submitted to OMB for Review and Approval; Comment Request; NSPS for Commercial and Industrial Solid Waste Incineration (CISWI) Units (Renewal)

AGENCY: Environmental Protection Agency (EPA).

ACTION: Notice.

SUMMARY: The Environmental Protection Agency (EPA) has submitted an information collection request (ICR), NSPS for Commercial and Industrial Solid Waste Incineration (CISWI) Units (EPA ICR Number 2384.05, OMB Control Number 2060-0662), to the Office of Management and Budget (OMB) for review and approval in accordance with the Paperwork Reduction Act. This is a proposed extension of the ICR, which is currently approved through August 31, 2020. Public comments were previously requested, via the Federal Register, on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 29, 2020.

ADDRESSES: Submit your comments, referencing Docket ID Number EPA-HQ-OECA-2013-0315, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for Commercial and Industrial Solid Waste Incineration (CISWI) Units (40 CFR part 60, subpart CCCC) were proposed on November 30, 1999, promulgated on December 01, 2000, and most-recently amended on: February 7, 2013; June 23, 2016; and April 16, 2019. The 2013 amendment re-established emission limits and expanded the rule to cover these CISWI subcategories: energy recovery units; waste burning kilns; incinerators; and small, remote incinerators. The 2016 amendment finalized reconsiderations to certain aspects to the 2013 amendment and finalized actions on the following four topics: the definition of “continuous emission monitoring system (CEMS) data during startup and shutdown periods;” the particulate matter (PM) limit for the waste-burning kiln subcategory; the fuel variability factor (FVF) for coal-burning energy recovery units (ERUs); and the definition of “kiln.” The 2019 amendments further clarified implementation of the 2016 standards, including certain testing and monitoring issues and inconsistencies, and editorial corrections and errors within the rules that required clarification or correction. These regulations apply to Commercial and Industrial Solid Waste Incineration (CISWI) units that either commenced construction after June 4, 2010, or commenced reconstruction or modification after August 7, 2013. This information is being collected to assure compliance with 40 CFR part 60, subpart CCCC.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Owners and operators of commercial and industrial solid waste incineration (CISWI) units that commenced construction after June 4, 2010 or commenced reconstruction or modification after August 7, 2013.

Respondent's obligation to respond: Mandatory (40 CFR part 60 Subpart CCCC).

Estimated number of respondents: 11 (total).

Frequency of response: Semiannually and annually.

Total estimated burden: 1,700 hours (per year). Burden is defined at 5 CFR 1320.3(b).

Total estimated cost: $970,000 (per year), which includes $769,000 in annualized capital/startup and/or operation & maintenance costs.

Changes in the Estimates: There is an adjustment increase in the total estimated burden as currently identified in the OMB Inventory of Approved Burdens. This increase is not due to any program changes. The change in the burden and cost estimates occurred because there is a small increase in the number of sources subject to the rule due to continued, albeit low-growth, within the industry. This ICR reflects the on-going burden and costs for existing facilities. We have adjusted the burden to reflect the increased number of existing respondents that perform annual performance tests, annual monitoring, refresher training, and report parameter exceedances. In addition, there are a small number of new facilities that are in the initial compliance phase, whose costs include purchasing monitoring equipment, conducting performance tests and establishing recordkeeping systems. The overall result is an increase in burden hours and costs.

Courtney Kerwin,
Director, Regulatory Support Division.

[FR Doc. 2020-13930 Filed 6-26-20; 8:45 am]

BILLING CODE 6560-50-P